ENVIRONMENTAL PROTECTION AGENCY

[ER-FRL-9038-6]

Environmental Impact Statements; Notice of Availability

Responsible Agency: Office of Federal Activities, General Information (202) 564-7156 or https://www2.epa.gov/nepa.

Weekly receipt of Environmental Impact Statements

Filed 04/02/2018 Through 04/06/2018

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180058, Final, USFS, WI, Townsend Project, Review Period Ends: 05/14/2018, Contact: Marilee Houtler 715-276-6333

EIS No. 20180059, Final, WAPA, CO, Estes to Flatiron Transmission Lines Rebuild Project Larimer County, Colorado Final Environmental Impact Statement (DOE/EIS-0483), Review Period Ends: 05/14/2018, Contact: Mark Wieringa 720-962-7448

EIS No. 20180060, Draft, USFS, CA, Tahoe National Forest Over-snow Vehicle Use Designation, Comment Period Ends: 05/29/2018, Contact: Joe Chavez 530-478-6158

EIS No. 20180061, Final, USFS, OR, Trout Creek, Review Period Ends: 05/29/2018, Contact: Joan Schmidgall 541-367-3809

EIS No. 20180062, Draft, NPS, CO, Great Sand Dunes National Park and Preserve Draft Ungulate Management Plan and EIS, Comment Period Ends: 05/31/2018, Contact: Tucker Blythe 719-378-6311

EIS No. 20180063, Draft Supplement, BR, WA, Kachess Drought Relief Pumping Plant and Keechelus Reservoir-to-Kachess Reservoir Conveyance (KDRPP/KKC) Projects Supplemental Draft Environmental Impact Statement, Kittitas and Yakima Counties, Washington, Comment Period Ends: 07/11/2018, Contact: Candace McKinley 509-575-5848 ext. 603

Dated: April 9, 2018.
Kelly Knight,
Director, NEPA Compliance Division, Office of Federal Activities.

[FR Doc. 2018-07690 Filed 4-12-18; 8:45 am]

BILLING CODE 6560-50-P